DEPARTMENT OF THE INTERIOR

National Park Service

[NPS-WASO-NAGPRA-13947; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum, University of Washington (Burke Museum), has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Burke Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Burke Museum at the address in this notice by November 25, 2013.

ADDRESSES: Peter Lape, Burke Museum, University of Washington, Box 353010, Seattle, WA 98195, telephone (206) 685-3849, email plape@uw.edu.

SUPPLEMENTARY INFORMATION: Notice is here given in accordance with the Native American Graves Protection and Repatriation Act (NAGPRA), 25 U.S.C. 3003, of the completion of an inventory of human remains under the control of the Burke Museum. The human remains were removed from Island County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum professional staff in consultation with representatives of the Lummi Tribe of the Lummi Reservation, Washington; Samish Indian Tribe, Washington; Sauk-Suiattle Indian Tribe; Stillaguamish Tribe of Indians of Washington (previously listed as Stillaguamish Tribe of Washington); Swinomish Indians of the Swinomish Reservation of Washington; Tulalip Tribes of Washington (previously listed as the Tulalip Tribes of the Tulalip Reservation, Washington); and the Upper Skagit Indian Tribe (all of the above hereafter referred to as “The Consulted Tribes”).

History and Description of the Remains

In 1963, human remains representing, at minimum, one individual were removed from Useless Bay in Island County, WA. The remains were removed by Bob Atwell and Emil Gabeline and subsequently donated to the Burke Museum (Burke Accn. #1963-50). During initial consultations, the remains were believed to have been removed from Careless Bay in Island County, WA. The remains were included in a Notice of Inventory Completion published in the Federal Register (78 FR 45958-45959, July 30, 2013). After further research it has been determined that the remains were collected from Useless Bay on southern Whidbey Island. A Correction Notice of Inventory Completion will be forthcoming and will remove the relevant paragraph. No known individuals were identified. No funerary objects are present.

Native American speakers of the Northern dialect of the Lushootseed language claim cultural heritage to southern Whidbey Island. Historical and anthropological sources (Mooney 1896, Ruby and Brown 1986, Spier 1936, and Swanton 1952) indicate that the Snohomish occupied southern Whidbey Island. The Sdugwadskabsh band of Snohomish people lived at Newell at Useless Bay (Swanton 1952). The Indian Claims Commission determined that Useless Bay was within the aboriginal territory of the Snohomish people. Holmes Harbor was one of the areas the Stillaguamish and other tribes were told to move to after being forced to leave their villages on the mainland (Deur 2009, Grady 2012). Holmes Harbor is in close proximity to Useless Bay. Today, descendants of Snohomish are represented by the Tulalip Tribes of Washington.

Determinations Made by the Burke Museum

Officials of the Burke Museum have determined that:

• Based on archaeological evidence, the human remains have been determined to be Native American.

• Pursuant to 25 U.S.C. 3001(9), the human remains described in this notice represent the physical remains of one individual of Native American ancestry.

• Pursuant to 25 U.S.C. 3001(2), there is a relationship of shared group identity that can be reasonably traced between the Native American human remains and the Stillaguamish Tribe of Indians of Washington (previously listed as Stillaguamish Tribe of Washington) and the Tulalip Tribes of Washington (previously listed as the Tulalip Tribes of the Tulalip Reservation, Washington).

Additional Requestors and Disposition

Lineal descendants or representatives of any Indian tribe or Native Hawaiian organization not identified in this notice that wish to request transfer of control of these human remains should submit a written request with information in support of the request to Peter Lape, Burke Museum, University of Washington, Box 353010, Seattle, WA 98195, telephone (206) 685-3849, email plape@uw.edu, by November 25, 2013. After that date, if no additional requestors have come forward, transfer of control of the human remains to the Stillaguamish Tribe of Indians of Washington (previously listed as Stillaguamish Tribe of Washington) and the Tulalip Tribes of Washington (previously listed as the Tulalip Tribes of the Tulalip Reservation, Washington) may proceed.

The Burke Museum is responsible for notifying The Consulted Tribes that this notice has been published.

Dated: August 28, 2013.
Melanie O'Brien,
Acting Manager, National NAGPRA Program.

[FR Doc. 2013-25106 Filed 10-24-13; 8:45 am]

BILLING CODE 4312-50-P